UNITED STATES MINT

Pricing Methodology for Numismatic Products Containing Gold and Platinum Coins; Expansion of Schedule Range

AGENCY: United States Mint.

ACTION: Notice.

SUMMARY: The United States Mint published a document in the Federal Register of January 6, 2009, outlining the new pricing methodology for numismatic products containing gold and platinum coins. The document contained schedules for pricing based on a range of average prices of gold and platinum. These schedules now need to be expanded to higher ranges to accommodate rising prices of gold and platinum.

FOR FURTHER INFORMATION CONTACT: B.B. Craig, Associate Director for Sales and Marketing; United States Mint; 801 Ninth Street, NW., Washington, DC 20220; or call 202-354-7500.

SUPPLEMENTARY INFORMATION: The gold and platinum schedules, published in the Federal Register of January 6, 2009 (74 FR 493), in FR Doc. E8-31424, are updated to read as follows:

BILLING CODE P

Dated: November 25, 2009.
Andrew Brunhart,
Deputy Director.

[FR Doc. E9-28771 Filed 12-3-09; 8:45 am]

BILLING CODE C